DEPARTMENT OF HOMELAND SECURITY

Coast Guard

33 CFR Part 165

[CGD13-03-008]

RIN 1625-AA00

Safety Zones; Annual Fireworks Events in the Captain of the Port Portland Zone, Willamette River, Portland, OR

AGENCY: Coast Guard, DHS.

ACTION: Notice of implementation of regulation.

SUMMARY: The Captain of the Port Portland will begin enforcing the safety zone for the Oregon Symphony Concert Fireworks Display established by 33 CFR 165.1315 on May 30, 2003. The Captain of the Port, Portland, Oregon, is taking this action to safeguard watercraft and their occupants from safety hazards associated with the fireworks display. Entry into this safety zone is prohibited unless authorized by the Captain of the Port.

DATES: 33 CFR 165.1315 will be enforced August 28, 2003 from 8:30 p.m. (PDT) until 9:30 p.m. (PDT). A rain date is scheduled for August 29.

SUPPLEMENTARY INFORMATION: On May 30, 2003, the Coast Guard published a final rule (68 FR 32366) establishing safety zones, in 33 CFR § 165.1315, to provide for the safety of vessels in the vicinity of fireworks displays. One of these fireworks displays is the Oregon Symphony Concert fireworks display. The safety zone covers all waters of the Willamette River bounded by the Hawthorne Bridge to the north, Marquam Bridge to the south, and shoreline to the east and west. Entry into this zone is prohibited unless authorized by the Captain of the Port or his designee. The Captain of the Port Portland will enforce this safety zone on August 28, 2003 from 8:30 p.m. (PDT) until 9:30 p.m. (PDT). A rain date is scheduled for August 29. The Captain of the Port may be assisted by other federal, state, or local agencies in enforcing this safety zone.

FOR FURTHER INFORMATION CONTACT: Captain of the Port Portland, 6767 N. Basin Ave., Portland, OR 97217 at (503) 240-9370 to obtain information concerning enforcement of this rule.

Dated: July 13, 2003.
Paul D. Jewell,
Captain, Coast Guard, Captain of the Port, Portland.

[FR Doc. 03-19144 Filed 7-25-03; 8:45 am]

BILLING CODE 4910-15-P